SMALL BUSINESS ADMINISTRATION

[License No. 01/01-0409]

Brook Venture Fund IIA, LP; Notice Seeking Exemption Under Section 312 of the Small Business Investment Act, Conflicts of Interest

Notice is hereby given that Brook Venture Fund IIA, LP, 301 Edgewater Place, Suite 425, Wakefield, MA 01880, a Federal Licensee under the Small Business Investment Act of 1958, as amended (“the Act”), in connection with the financing of a small concern, is seeking an exemption under Section 312 of the Act and Section 107.730, Financings which Constitute Conflicts of Interest of the Small Business Administration (“SBA”) Rules and Regulations (13 CFR 107.730). Brook Venture Fund IIA, LP wishes to provide an equity financing in the amount of $1,500,000 to Repromedix Corporation.

The financing is brought within the purview of 107.730(a)(1) of the Regulations inasmuch as Brook Venture Fund II, LP is an Associate of Brook Venture Fund IIA, LP as defined in Section 107.50 of the Regulations by virtue of being its Parent Fund and because Brook Venture Fund II, LP has a current ownership interest in Repromedix Corporation equal to greater than 10 percent.

Notice is hereby given that any interested person may submit written comments on the transaction to the Associate Administrator for Investment, U.S. Small Business Administration, 409 Third Street, SW., Washington, DC 20416.

Dated: April 20, 2007.
Harry Haskins,
Deputy Associate Administrator for Investment.

[FR Doc. E7-7839 Filed 4-24-07; 8:45 am]

BILLING CODE 8025-01-P